DEPARTMENT OF ENERGY

Federal Energy Regulatory Commission

[Project No. 12713-002]

Reedsport OPT Wave Park, LLC; Notice of Application Accepted for Filing, Ready for Environmental Analysis, and Soliciting Motions To Intervene and Protests, Comments, Terms and Conditions, Recommendations, and Prescriptions

June 1, 2010.

Take notice that the following hydroelectric application has been filed with the Commission and is available for public inspection.

a. Type of Filing: Original Minor License.

b. Project No.: 12713-002.

c. Dated Filed: February 1, 2010.

d. Applicant: Reedsport OPT Wave Park, LLC.

e. Name of Project: Reedsport OPT Wave Park.

f. Location: Pacific Ocean in state waters about 2.5 miles off the coast near Reedsport, in Douglas County, Oregon. The project would occupy about 5 acres of federal lands in the Siuslaw National Forest (Oregon Dunes National Recreation Area).

g. Filed Pursuant to: 18 CFR 4.61 of the Commission's regulations.

h. Applicant Contact: Mr. Philip Pellegrino, Reedsport OPT Wave Park, LLC, 1590 Reed Road, Pennington, New Jersey 08534; (609) 730-0400.

i. FERC Contact: Jim Hastreiter at (503) 552-2760 or james.hastreiter@ferc.gov.

j. Deadline for filing motions to intervene and protests, comments, terms and conditions, recommendations, and prescriptions: 90 days from the issuance of this notice. All reply comments must be filed with the Commission within 135 days from the date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project description: The project facilities would include 10 PowerBuoy wave-powered generating units attached to seabed anchors, tendon lines, subsurface floats, and catenary mooring lines. The PowerBuoy units would be deployed in an array of three to four rows, approximately in a SW-NE orientation, and would occupy about 0.25 square mile of the Pacific Ocean. Each PowerBuoy would have a maximum diameter of 36 feet, extend 29.5 feet above the water surface, and have a draft of 115 feet.

A power/fiber optic cable would exit the bottom of each PowerBuoy, descending to the seabed in a lazy “S” shape with subsurface floats attached to the cable and a clump weight at the seabed. The 10 PowerBuoy units would be connected to a single Underwater Substation Pod (USP) via power/fiber-optic lines. The USP would be about 6 feet in diameter and 15 feet in length, and would rest on the seabed below the PowerBuoys, held in place with pre-cured concrete ballast blocks. A submarine transmission cable, buried in the seabed to a depth of 3 to 6 feet, would extend from the USP to an existing wastewater discharge pipe. The submarine cable would extend through the wastewater pipe to an underground vault, which would be constructed at the existing turn-around at the end of Sparrow Park Road, immediately inland of the sand dunes. At the vault, the subsea transmission cable would exit the effluent pipe, transition to an underground cable, and reenter the effluent pipe.

The underground transmission cable would continue within the effluent pipe eastward for approximately 3 miles, where it would connect to the Douglas Electric Cooperative transmission line at a proposed shore station. The shore station would consist of a 100- to 200-square foot building.

m. A copy of the license application is available for review at the Commission in the Public Reference Room or may be viewed on the Commission's Web site (http://www.ferc.gov), using the “eLibrary” link. Enter the docket number, excluding the last three digits in the docket number field to access the document (P-12713). For assistance, contact FERC Online Support at FERCONlineSupport@ferc.gov or toll free at 1-866-208-3676, of for TTY, (202) 502-8659. A copy is also available for inspection and reproduction at the address in paragraph i.

Register online at http://www.ferc.gov/docs-filing/esubscription.asp to be notified via e-mail of new filing and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Cooperating agencies: Federal, State, local, and tribal agencies with jurisdiction and/or special expertise with respect to environmental issues that wish to cooperate in the preparation of the environmental document should file such within 90 days from issuance of this notice. Cooperating agencies should note the Commission's policy that agencies that cooperate in the preparation of the environmental document cannot also intervene. See 94 FERC ¶ 61,076 (2001).

p. With this notice, we are initiating consultation with the Oregon State Historic Preservation Officer (SHPO), as required by 106, National Historic Preservation Act, and the regulations of the Advisory Council on Historic Preservation, 36 CFR, at 800.4.

q. Procedural Schedule: The application will be processed according to the following Hydro Licensing Schedule. Revisions to the schedule will be made as appropriate.

Milestone | Target date
Notice of Acceptance and Ready for Environmental Analysis | June 1, 2010.
Filing comments, recommendations, preliminary terms and conditions, and fishway prescriptions | August 30, 2010.
Reply comments | October 14, 2010.
Notice of availability of Final EA | November 15, 2010.
Comments on EA | January 14, 2011.

Kimberly D. Bose,
Secretary.

[FR Doc. 2010-13564 Filed 6-7-10; 8:45 am]

BILLING CODE 6717-01-P